ENVIRONMENTAL PROTECTION AGENCY

[FRL-7589-2]

Madison County Sanitary Landfill Superfund Site; Notice Of Settlement

AGENCY: Environmental Protection Agency.

ACTION: Notice of settlement.

SUMMARY: Under section 122(h)(1) of the Comprehensive Environmental Response, Compensation and Liability Act (CERCLA), the Environmental Protection Agency (EPA) has entered into an Agreement for Recovery of Past and Future UAO Oversight Costs (Agreement) at the Madison County Sanitary Landfill Superfund Site (Site) located in Madison County, Florida, with ITT Industries, Inc. and ITT Thompson Industries, Inc. EPA will consider public comments on the Agreement for thirty days. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887.

Written comment may be submitted to Greg Armstrong at the above address on or before December 22, 2003.

Dated: November 7, 2003.
Anita Davis,
Acting Chief, Superfund Information & Management Branch, Waste Management Division.

[FR Doc. 03-29003 Filed 11-19-03; 8:45 am]

BILLING CODE 6560-50-P